NATIONAL SCIENCE FOUNDATION

Advisory Committee for Education and Human Resources; Notice of Meeting

In accordance with the Federal Advisory Committee Act (Pub. L. 92-463, as amended), the National Science Foundation announces the following meeting:

Name: Advisory Committee for Education and Human Resources (#1119).

Date/Time:

May 5, 2010; 8:30 a.m. to 5 p.m.

May 6, 2010; 8:30 a.m. to 1 p.m.

Place: Hilton Arlington, Gallery Rooms, 2nd Floor, 950 North Stafford Street, Arlington, VA 22203.

Type of Meeting: Open.

Contact Person: James Colby, National Science Foundation, 4201 Wilson Boulevard, Arlington, VA 22230, (703) 292-5331, jcolby@nsf.gov.

Purpose of Meeting: To provide advice with respect to the Foundation's science, technology, engineering, and mathematics (STEM) education and human resources programming.

Agenda

May 5, 2010

I. Acting Assistant Director's Remarks: The Next Challenge: Leveraging What We Know to Make a Difference in STEM Education.

II. Overview of New Program Planning: Comprehensive Broadening Participation—Undergraduate Science, Technology, Engineering & Mathematics (STEM).

III. Discussion of Graduate Education/Career Development Programs.

IV. Collaborations with the Department of Education.

V. Acceptance of Committee of Visitor Reports for:

• National STEM Distributed Learning program.

• Science, Technology, Engineering, and Mathematics Talent Expansion Program (STEP).

May 6, 2010

I. Discussion: Overview of Draft NSF Strategic Plan FY2010-FY2015; Vision/Mission for Education and Human Resources (EHR) Directorate;

II. Visit From the Office of the NSF Director.

III. Future Issues for Consideration.

Dated: April 13, 2010.
Susanne Bolton,
Committee Management Officer.

[FR Doc. 2010-8722 Filed 4-15-10; 8:45 am]

BILLING CODE 7555-01-P